DEPARTMENT OF ENERGY

Federal Energy Regulatory Commission

[Docket No. RP96-389-050]

Columbia Gulf Transmission Company; Notice of Compliance Filing

May 23, 2002.

Take notice that on May 20, 2002, Columbia Gulf Transmission Company (Columbia Gulf) tendered for filing as part of its FERC Gas Tariff, Second Revised Volume No. 1, the following revised tariff sheets to become effective May 1, 2002:

First Revised Sheet No. 306

Original Sheet No. 316

Columbia Gulf states on April 18, 2002, it made a filing with the Federal Energy Regulatory Commission (Commission) seeking approval of a Rate Schedule PAL negotiated rate agreement with Duke Energy Trading and Marketing, L.L.C. in Docket No. RP96-389-047. Also, on April 25, 2002, Columbia Gulf made a similar filing with the Commission seeking approval of a Rate Schedule PAL negotiated rate agreement with Reliant Energy Services, Inc. in Docket No. RP96-389-048. On May 9, 2002, the Commission issued an order on both filings, approving the service agreements effective May 1, 2002, and directing Columbia Gulf to file a tariff sheet identifying the agreements as non-conforming agreements in compliance with Section 154.112(b) of the Commission's regulations. The instant filing is being made to comply with Section 154.112(b) and reference the non-conforming service agreements in its Volume No. 1 tariff.

Columbia Gulf states that copies of its filing is being mailed to each of the parties listed on the service list in this proceeding.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13498 Filed 5-29-02; 8:45 am]

BILLING CODE 6717-01-P